DEPARTMENT OF DEFENSE

Environmental Statements; Notice of Intent: Anderson Air Force Base, Guam; Correction

AGENCY: United States Air Force.

ACTION: Correction to Notice of Intent To Prepare a Draft Environmental Assessment for Beddown of Training and Support Initiatives at Northwest Field, Andersen Air Force Base, Guam (U.S. Territory).

SUMMARY: The United States Air Force issued a notice of intent to advise the public of our preparation of an Environmental Assessment for Beddown of Training and Support Initiatives at Northwest Field, Andersen Air Force Base, Guam, in the FR (Volume 70, Number 49, Pages 12656-12657) on 15 Mar. 05.

The contact information contained therein has been amended as follows. Please submit written comments to Mr. Scott Whittaker, Environmental Flight Chief, Unit 14007, APO AP 96543-4007, Facsimile (671) 366-5088. For further information, please call (671) 366-2101.

Albert Bodnar,
Federal Register Liaison Officer.

[FR Doc. 05-5712 Filed 3-22-05; 8:45 am]

BILLING CODE 5001-05-P